ADVISORY COUNCIL ON HISTORIC PRESERVATION

Draft Program Comment Regarding the Management of Wherry and Capehart Era Family Housing at Air Force and Navy Bases

AGENCY: Advisory Council on Historic Preservation.

ACTION: Notice of intent to issue Program Comment on Wherry and Capehart Era Family Housing at Air Force and Navy bases.

SUMMARY: The Department of the Air Force (Air Force) and the Department of the Navy (Navy) are formulating their plan on how to manage their inventory of Wherry and Capehart era housing. In order to better meet their Federal historic preservation responsibilities in managing these properties, the Air Force and the Navy have requested the Advisory Council on Historic Preservation (ACHP) to comment on the overall management of such properties, as opposed to submitting each individual undertaking under such management to a separate review. The Air Force and Navy plan is based in large part on the plan submitted by the Army in 2002, for which the ACHP subsequently approved a Program Comment (67 FR 39332; June 7, 2002). The Air Force and Navy plan uses some components developed in the Army plan, builds on others, and includes new components that were not previously a part of the Army plan. In whole, however, the Army, Air Force, and Navy plans should now provide a more complete program for Department of Defense (DoD) Wherry and Capehart Family Housing. The ACHP has drafted such a comment, for which it now seeks public input.

DATES: Submit comments on or before October 12, 2004.

ADDRESSES: Address all comments concerning this proposed Program Comment to Dave Berwick, Army Affairs Coordinator, Office of Federal Agency Programs, Advisory Council on Historic Preservation, 1100 Pennsylvania Avenue, NW., Suite 809, Washington, DC 20004. Fax (202) 606-8672. You may submit electronic comments to: dberwick@achp.gov.

FOR FURTHER INFORMATION CONTACT: Dave Berwick, (202) 606-8505.

SUPPLEMENTARY INFORMATION: Section 106 of the National Historic Preservation Act requires Federal agencies to consider the effects of their undertakings on historic properties and provide the Advisory Council on Historic Preservation (“ACHP”) a reasonable opportunity to comment with regard to such undertakings. The ACHP has issued the regulations that set forth the process through which Federal agencies comply with these duties. Those regulations are codified under 36 CFR part 800 (“Section 106 regulations”).

Under Section 800.14(e) of those regulations, agencies can request the ACHP to provide a “Program Comment” on a particular category of undertakings in lieu of conducting individual reviews of each individual undertaking under such category, as set forth in 36 CFR 800.4 through 800.6. An agency can then meet its Section 106 responsibilities for those undertakings by taking into account the ACHP's Program Comment and by following the steps set forth in those comments.

The Air Force and Navy have requested such a Program Comment to cover management of their Wherry and Capehart era housing. A copy of the draft Program Comment can be found at the end of this notice. Once the public input resulting from this notice is considered, the ACHP will decide whether to issue a final Program Comment to the Air Force and Navy.

Background on the Wherry and Capehart Family Housing Program

Military housing constructed during the 1949-1962 period is commonly called Wherry and Capehart Era housing after the two United States Senators who sponsored national military housing construction programs to address inadequate and substandard military family housing at military installations across the nation. Senator Wherry's program, implemented 1949-1955, allowed developers to construct, own, and maintain military housing on Department of Defense (“DoD”) (in this case Air Force and Navy) lands with FHA-insured mortgages. DoD guaranteed occupancy, agreed to long-term leases, and discounted utility rates in exchange for the developer's agreement to establish set rental rates and preferential leases for military families. Senator Capehart's program, implemented 1955-1962, called for DoD to purchase the new housing constructed by developers, and to purchase the developer-owned housing previously constructed under the Wherry housing program. DoD remained responsible for operation, maintenance and repair of this housing. Approximately 37,913 units constructed during the Capehart-Wherry Era remain in the Air Force's inventory of family housing, and 24,064 units remain in the Navy's inventory (17,122 are Navy's units and 6,942 are Marines units).

Approximately 39% of the Air Force's entire military family housing stock consists of those units built during the Wherry and Capehart military family housing construction program between 1949 and 1962. For the Navy, 34.5% of its housing stock is Wherry and Capehart housing (35% for the Navy and 32% for the Marines). Structures associated with this family housing include detached garages, carports and storage buildings, and the landscape features (including but not limited to the overall design and layout of the Wherry and Capehart Era communities, including road patterns, plantings and landscaping, open spaces, playgrounds, parking areas, signage, site furnishings, views into and out of the community, lighting, sidewalks, setbacks and all other associated cultural landscape features). A small percentage of buildings and structures constructed during this time period were not constructed with funds provided through the Wherry and Capehart funding programs, but are similar in all other respects, and are therefore included as part of this action.

Wherry and Capehart Era buildings were largely constructed from off-the-shelf, commercially available plans and specifications and range from single-family detached houses, to multi-unit row houses, duplexes, four-plexes, and multi-story apartment buildings. Brick, frame, cement block, and stucco were typical building materials. While architectural styles were largely consistent, there was some variation across the United States, but these tend to be differences in regional styles. Developers, consistent with principles guiding civilian neighborhood design at the onset of the “baby boom,” paid attention to comprehensive neighborhood planning and design. Overall, the Air Force's and Navy's Wherry and Capehart Era housing, associated structures, and landscape features reflect the ubiquitous, nation-wide suburban subdivision construction trends of this period.

The Air Force and Navy anticipate that all of their Capehart-Wherry Era family housing, associated structures and landscape features will be subject to the following categories of undertakings: Maintenance and repair, rehabilitation, renovation, layaway and mothballing, demolition, demolition and replacement, and transfer, sale or lease out of government control. These undertakings are a necessary part of DoD's efforts to modernize housing for military families. Currently, much of the Air Force's and the Navy's housing does not meet today's military housing standards. The Air Force and Navy are requesting that the ACHP provide a Program Comment on these categories of undertakings for their Capehart-Wherry Era family housing, associated structures and landscape features.

The Air Force and Navy are requesting a Program Comment as a service-wide Section 106 compliance action related to management of Wherry and Capehart era housing, associated structures and landscape features. This programmatic approach will facilitate management actions for privatization and transfer out of federal agency ownership, substantial alteration through renovation, and demolition and replacement of Wherry and Capehart Era housing, associated structures and landscape features that are listed or eligible for listing on the National Register of Historic Places. Therefore, there is the potential for adverse effects to historic properties.

The following is the full text of the draft Program Comment:

Program Comment for Wherry and Capehart Era Family Housing at Air Force and Navy Bases

I. Introduction

This Program Comment provides the Department of the Air Force (Air Force) and the Department of the Navy (Navy) with an alternate way to comply with its responsibilities under Section 106 of the National Historic Preservation Act with regard to the following actions in the management of the Wherry and Capehart Era family housing: Privatization and transfer out of federal agency ownership, substantial alteration through renovation, and demolition and replacement of Wherry and Capehart Era housing, associated structures and landscape features that may be eligible for listing on the National Register of Historic Places.

II. Treatment of Wherry and Capehart Properties

a. Eligibility

The Army conducted a historic context of its Wherry and Capehart properties and documented these in a report entitled For Want of a Home: A Historic Context for Wherry and Capehart Military Family Housing. On May 22, 2001, the Army sponsored a symposium on Wherry and Capehart era housing management as it relates to historic preservation. The symposium was attended by preservation experts, including the National Trust for Historic Preservation (Trust), the National Conference of State Historic Preservation Officers (NCSHPO), the ACHP, and nationally recognized experts in the field of historic preservation from academia and industry. Symposium participants recommended a programmatic approach to complying with Section 106, and these approaches were part of the Program Comment which was approved by the ACHP in 2002 (67 FR 39332; June 7, 2002). The Air Force and the Navy have gathered data on their inventory of Wherry and Capehart properties which will be appended to the Army's context study, as outlined below, to provide a comprehensive understanding of the Department of Defense (DoD) inventory for this property type. As with the Army, the Air Force and the Navy consider their inventory of Wherry and Capehart properties, including any associated structures and landscape features, to be eligible for the National Register of Historic Places for the purposes of Section 106 compliance.

b. Treatment

The Air Force and the Navy have requested a Program Comment as a service-wide Section 106 compliance action related to management of Wherry and Capehart Era housing, associated structures and landscape features. This programmatic approach will facilitate management actions for privatization and transfer out of Federal agency ownership, substantial alteration through renovation, and demolition and replacement of Wherry and Capehart Era housing, associated structures and landscape features. Such actions present a potential for adverse effects to historic properties.

Based on the Program Comment previously approved for the Army for this property type, and following meetings with the ACHP, the Trust and NCSHPO, the Air Force and the Navy agree to the following five-step approach to the treatment of its Wherry and Capehart properties:

(i) The Air Force and the Navy will revise the Army's historic context, The Wherry and Capehart Era Solutions to the Postwar Family Housing Shortage (1949-1962): A Historic Context, to include information pertinent to Air Force and Navy bases where this information differs from that provided in the Army's context study (for example, numbers and types of units at Air Force and Navy bases, historically important builders, developers and architects associated with design and construction on Air Force and Navy bases, Properties of Particular Importance in the Air Force and Navy inventories, etc.) The intent of these revisions is to provide a more complete picture of Wherry and Capehart Era family housing across DoD. Upon completion of the revised context study, the Air Force and the Navy will use it and the oral histories recorded in accordance with section (v), below, to prepare a report suitable for release to the general public. The report to the public will extract that information which may be deemed sensitive or inappropriate for release to the public. Copies of the report will be provided to all the SHPOs, NCSHPO, the Trust and the ACHP.

(ii) The Air Force and Navy will use, or modify for their own use, the Army's design guidelines: Neighborhood Design Guidelines for Army Wherry and Capehart Housing. These Neighborhood Design Guidelines will be distributed Air Force and Navy-wide to those offices that manage and maintain this housing type and they will consider the design guidelines in planning actions that affect their Wherry and Capehart Era housing, associated structures and landscape features. Copies of the Air Force and Navy guidelines will be provided to the NCSHPO, the Trust and the ACHP.

(iii) For Wherry and Capehart properties that have been determined to be of particular importance, as defined in the revised context study, the Air Force and the Navy will, within funding and mission constraints, consider the preservation of these properties through continued use as military housing.

(iv) The Air Force and the Navy will advise developers involved in housing privatization initiatives that Wherry and Capehart properties may be eligible for historic preservation tax credits.

(v) The Air Force and the Navy will attempt to locate and conduct oral interviews of military families (which may include Army families) that had previously lived in Wherry and Capehart housing. Prior to conducting any interviews, the Air Force and the Navy will work with the Library of Congress' Veterans History Project to develop a set of appropriate interview questions and proper formats in which interviews will be recorded. Upon completion of the oral histories, the Air Force and the Navy will provide a copy of all written and recorded documentation to the Library of Congress.

The ACHP believes that this five-step approach will ensure that the Air Force and the Navy take into account the effects of management of their Wherry and Capehart era housing.

III. Applicability

This Program Comment does not apply to the following properties that are listed, or eligible for listing, on the National Register of Historic Places: (a) Archeological sites, (b) properties of traditional religious and cultural significance to federally recognized Indian tribes or Native Hawaiian organizations, or (c) historic properties other than Air Force and Navy Wherry and Capehart Era housing, associated structures and landscape features.

IV. Effect of Program Comment

By following this comment and outlined five-step approach, the Air Force and the Navy will have met their responsibilities for compliance under Section 106 regarding management of their Wherry and Capehart era housing. Accordingly, Air Force and Navy bases will not have to follow the case-by-case Section 106 review process for each individual management action.

The Air Force and the Navy may carry out management actions prior to the completion of all of the five treatment steps outlined above, so long as such management actions do not preclude the eventual successful completion of those five steps.

If the ACHP determines that the consideration of Wherry and Capehart properties is not being carried out in a manner consistent with this Program Comment, the ACHP may withdraw this comment. Following such withdrawal, the Air Force and the Navy would comply with the requirements of 36 CFR 800.3 through 800.7 for each individual management action.

Authority: 36 CFR 800.14(e).

Dated: September 7, 2004.
Ronald D. Anzalone,
Acting Executive Director.

[FR Doc. 04-20542 Filed 9-9-04; 8:45 am]

BILLING CODE 4310-10-P